OFFICE OF PERSONNEL MANAGEMENT

Excepted Service

AGENCY: U.S. Office of Personnel Management (OPM).

ACTION: Notice.

SUMMARY: This notice identifies Schedule A, B, and C appointing authorities applicable to a single agency that were established or revoked from February 1, 2012, to February 29, 2012.

FOR FURTHER INFORMATION CONTACT: Phyllis Proctor, Senior Executive Resource Services, Executive Resources and Employee Development, Employee Services, 202-606-2246.

SUPPLEMENTARY INFORMATION: In accordance with 5 CFR 213.103, Schedule A, B and C appointing authorities available for use by all agencies are codified in the Code of Federal Regulations (CFR). Schedule A, B and C appointing authorities applicable to a single agency are not codified in the CFR, but the Office of Personnel Management (OPM) publishes a notice of agency-specific authorities established or revoked each month in the Federal Register at www.gpo.gov/fdsys/. OPM also publishes annually a consolidated listing of all Schedule A, B and C appointing authorities current as of June 30 as a notice in the Federal Register.

Schedule A

No Schedule A authorities to report during February 2012.

Schedule B

The following Schedule B authorities were reported during February 2012.

Section 213.3211. Department of Homeland Security

(a) Coast Guard.

(1) Up to 36 permanent positions at the GS-9 through GS-15 grade levels. This authority may be used to fill GS-080 (Security) and GS-132 (Intelligence) positions. No appointments may be made under this authority after April 30, 2012.

Schedule C

The following Schedule C appointing authorities were approved during February 2012.

Agency name | Organization name | Position title | Authorization number | Effective date
Department of Agriculture | Office of the Under Secretary for Research, Education, and Economics | Chief of Staff | DA120032 | 2/7/2012
| Office of the Under Secretary for Marketing and Regulatory Programs | Senior Advisor | DA120036 | 2/10/2012
| Office of the Under Secretary for Research, Education, and Economics | Confidential Assistant | DA120037 | 2/10/2012
| Rural Housing Service | Special Assistant | DA120039 | 2/17/2012
| Rural Housing Service | Confidential Assistant | DA120034 | 2/24/2012
Department of Commerce | Office of the Under Secretary | Senior Advisor | DC120040 | 2/2/2012
| Office of the Under Secretary | Senior Policy Advisor | DC120072 | 2/14/2012
| Office of Public Affairs | Senior Advisor for Communications and Policy | DC120073 | 2/16/2012
| Office of Public Affairs | Director of Digital Strategy | DC120070 | 2/24/2012
Department of the Army | Office Deputy Under Secretary of Army (Operations Research) | Special Assistant | DW120015 | 2/22/2012
| Office Assistant Secretary Army (Manpower and Reserve Affairs) | Special Assistant(Manpower and Reserve Affairs) | DW120014 | 2/24/2012
Department of the Navy | Office of the Secretary | Special Assistant | DN120011 | 2/2/2012
Department of Education | Office of the General Counsel | Special Counsel | DB120043 | 2/2/2012
| Office of the General Counsel | Special Counsel | DB120045 | 2/2/2012
| Office of the General Counsel | Senior Counsel | DB120044 | 2/7/2012
| Office of the Secretary | Deputy White House Liaison | DB120052 | 2/10/2012
| Office of the General Counsel | Chief of Staff | DB120053 | 2/23/2012
| Office of Legislation and Congressional Affairs | Special Assistant | DB120054 | 2/23/2012
| Office of Innovation and Improvement | Senior Counsel | DB120055 | 2/24/2012
| Office of the Secretary | Confidential Assistant | DB120056 | 2/24/2012
General Services Administration | Office of the Administrator | Special Assistant | GS120009 | 2/28/2012
| Office of Administrative Services | Special Advisor | GS120010 | 2/28/2012
Department of Health and Human Services | Office of the Secretary | Confidential Assistant | DH120046 | 2/7/2012
| Office of the Secretary | Senior Advisor | DH120047 | 2/14/2012
| Office of the Secretary | Advance Lead | DH120043 | 2/16/2012
| Office of the Secretary | Advance Lead | DH120044 | 2/16/2012
| Office of the Deputy Secretary | Chief of Staff | DH120045 | 2/16/2012
| Office of the Secretary | Deputy White House Liaison for Political Personnel, Boards and Commissions | DH120052 | 2/16/2012
| Office of the Assistant Secretary for Planning and Evaluation | Senior Policy Analyst | DH120053 | 2/16/2012
Department of Homeland Security | Office of the Secretary | Confidential Assistant | DM120061 | 2/9/2012
| Office of the Assistant Secretary for Public Affairs | Public Affairs Specialist and Strategic Communication Coordinator | DM120064 | 2/10/2012
| Office of the Assistant Secretary for Policy | Executive Assistant | DM120066 | 2/13/2012
Department of Housing and Urban Development | Office of the Secretary | Special Assistant | DU120022 | 2/8/2012
| Office of the Secretary | Director of Advance | DU120021 | 2/28/2012
Department of Justice | Antitrust Division | Senior Counsel | DJ120028 | 2/22/2012
Department of Labor | Office of the Secretary | Special Assistant | DL120027 | 2/17/2012
| Office of Federal Contract Compliance Programs | Special Assistant | DL120030 | 2/17/2012
| Office of Congressional and Intergovernmental Affairs | Regional Representative | DL120031 | 2/24/2012
National Aeronautics and Space Administration | Office of Legislative and Intergovernmental Affairs | Legislative Affairs Specialist | NN120013 | 2/1/2012
| Office of Legislative and Intergovernmental Affairs | Legislative Affairs Specialist | NN120010 | 2/23/2012
Office of Management and Budget | Communications | Deputy Associate Director for Strategic Planning and Communications | BO110036 | 2/9/2012
| Office of Management and Budget | Confidential Assistant | BO120013 | 2/16/2012
Office of Personnel Management | Office of Communications and Public Liaison | Speechwriter | PM120011 | 2/7/2012
Small Business Administration | Office of the Administrator | Senior Policy Advisor | SB120011 | 2/14/2012
Department of State | Office of the Chief of Protocol | Senior Protocol Officer | DS120022 | 2/7/2012
Department of Transportation | Administrator | Director for Governmental Affairs | DT120032 | 2/8/2012
Department of the Treasury | Assistant Secretary (Public Affairs) | Spokesperson | DY120059 | 2/7/2012
| Assistant Secretary (Public Affairs) | Senior Advisor | DY120062 | 2/16/2012
| Under Secretary for International Affairs | Senior Advisor | DY120064 | 2/22/2012
United States International Trade Commission | Office of the Chairman | Staff Assistant | TC120003 | 2/1/2012
| Office of the Chairman | Staff Assistant (Legal) | TC120004 | 2/1/2012

The following Schedule C appointing authorities were revoked during February 2012.

Agency | Organization | Position title | Authorization number | Vacate date
Department of Agriculture | Office of the Assistant Secretary for Congressional Relations | Staff Assistant | DA110007 | 2/11/2012
| Foreign Agricultural Service | Senior Advisor | DA090206 | 2/24/2012
Department of Commerce | Office of the Chief of Staff | Director of Scheduling | DC100065 | 2/3/2012
| International Trade Administration | Senior Advisor | DC100076 | 2/10/2012
| Office of the Under Secretary | Director, Office of Legislative Affairs and Senior Trade Advisor | DC110007 | 2/13/2012
| Office of Public Affairs | New Media Director | DC100127 | 2/25/2012
| Deputy Assistant Secretary for Domestic Operations | Special Assistant | DC100078 | 2/29/2012
Department of Education | Office of the General Counsel | Chief of Staff | DB090106 | 2/11/2012
| Office of the General Counsel | Special Assistant | DB110048 | 2/11/2012
| Office of the General Counsel | Special Assistant | DB110088 | 2/11/2012
| Office for Civil Rights | Senior Counsel | DB120012 | 2/16/2012
| Office of the Secretary | Director, Scheduling and Advance Staff | DB120034 | 2/16/2012
Department of Energy | Office of the Secretary | Deputy White House Liaison | DE100022 | 2/25/2012
Department of Health and Human Services | Office of the Assistant Secretary for Legislation | Special Assistant to the Deputy Assistant Secretary for Legislation | DH090229 | 2/20/2012
Department of Homeland Security | Federal Emergency Management Agency | Director of Public Affairs | DM120024 | 2/3/2012
| Office of the Assistant Secretary for Public Affairs | Public Affairs and Strategic Communications Assistant | DM110163 | 2/11/2012
| United States Customs and Border Protection | Executive Assistant | DM090454 | 2/25/2012
Department of the Navy | Office of the Secretary | Special Assistant | DN110007 | 2/11/2012
| Office of the Under Secretary of the Navy | Attorney Advisor | DN090078 | 2/18/2012
Environmental Protection Agency | Office of the Administrator | White House Liaison | EP100044 | 2/4/2012
Small Business Administration | Office of the Administrator | Policy Associate | SB100027 | 2/7/2012

Authority: 5 U.S.C. 3301 and 3302; E.O. 10577, 3 CFR 1954-1958 Comp., p. 218.

U.S. Office of Personnel Management.
John Berry,
Director.

[FR Doc. 2012-13137 Filed 5-30-12; 8:45 am]

BILLING CODE 6325-39-P